DEPARTMENT OF ENERGY

Federal Energy Regulatory Commission

[Docket No. AD25-4-000]

Interregional Transfer Capability Study: Strengthening Reliability Through the Energy Transformation

Correction

In notice document 2024-30493, appearing on pages 105790 through 105983 in the issue of Friday, December 27, 2024, make the following correction:

On page 105790, in the first column, in the document heading, the Docket No. should appear as above.

[FR Doc. C1-2024-30493 Filed 1-22-25; 8:45 am]

BILLING CODE 0099-10-D